DEPARTMENT OF TRANSPORTATION

Federal Motor Carrier Safety Administration

[Docket No. FMCSA-2013-0443]

Qualification of Drivers; Exemption Applications; Epilepsy and Seizure Disorders

AGENCY: Federal Motor Carrier Safety Administration (FMCSA), DOT.

ACTION: Notice of correction; reopening of comment period.

SUMMARY: FMCSA corrects its May 7, 2020, notice requesting comments on the receipt of applications from eight individuals for exemption from the requirement in the Federal Motor Carrier Safety Regulations (FMCSRs) that interstate commercial motor vehicle (CMV) drivers have “no established medical history or clinical diagnosis of epilepsy or any other condition which is likely to cause loss of consciousness or any loss of ability to control a CMV” to include one individual whose name was not listed in that notice. The exemptions enable these individuals who have had one or more seizures and are taking anti-seizure medication to continue to operate CMVs in interstate commerce. The Agency also reopens the public comment period for that notice.

DATES: This correction is effective August 25, 2020. The comment period for the notice published May 8, 2020, at 85 FR 27262, is reopened. Comments must be received on or before September 24, 2020.

ADDRESSES: You may submit comments identified by the Federal Docket Management System (FDMS) Docket ID FMCSA-2013-0443 using any of the following methods:

• Federal eRulemaking Portal: Go to http://www.regulations.gov/docket?D=FMCSA-2013-0443. Follow the online instructions for submitting comments.

• Mail: Docket Management Facility; U.S. Department of Transportation, 1200 New Jersey Avenue SE, West Building Ground Floor, Room W12-140, Washington, DC 20590-0001.

• Hand Delivery: West Building Ground Floor, Room W12-140, 1200 New Jersey Avenue SE, Washington, DC, between 9 a.m. and 5 p.m., ET, Monday through Friday, except Federal Holidays.

• Fax: (202) 493-2251.

To avoid duplication, please use only one of these four methods. See the “Public Participation” portion of the SUPPLEMENTARY INFORMATION section for instructions on submitting comments.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are from 8:30 a.m. to 5 p.m., ET, Monday through Friday, except Federal holidays. If you have questions regarding viewing or submitting material to the docket, contact Docket Operations, (202) 366-9826.

SUPPLEMENTARY INFORMATION: On May 7, 2020, (85 FR 27262), FMCSA published a notice regarding several individuals requesting an exemption from the physical qualification standard found in § 391.41(b)(8), which states that a person is physically qualified to drive a CMV if that person has no established medical history or clinical diagnosis of epilepsy or any other condition which is likely to cause loss of consciousness or any loss of ability to control a CMV. Although the notice references eight applicants, only seven applicants were listed. One applicant, Michael Miller (WI), was inadvertently left out of the notice. FMCSA corrects the notice and reopens the comment period to ensure that interested parties have sufficient time to review and comment on the exemption applications.

Larry W. Minor,
Associate Administrator for Policy.

[FR Doc. 2020-18578 Filed 8-24-20; 8:45 am]

BILLING CODE 4910-EX-P